FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
3886F | Goodship International, Inc., 1058 Tower Lane, Bensenville, IL 60106 | February 27, 2002.
16083F | Palmetto Freight Forwarding Corp., 2577 West 80 Street, Hialeah, FL 33016 | December 6, 2001.
3406F | Simmons International Express, Inc., 101 E. Clarendon Street, Prospect Heights, IL 60070 | January 4, 2002.

Sandra L. Kusumoto,
Director, Bureau of Consumer Complaints and Licensing.

[FR Doc. 02-8723 Filed 4-9-02; 8:45 am]

BILLING CODE 6730-01-P